NUCLEAR REGULATORY COMMISSION

[Docket No. 70-7003; NRC-2021-0058]

American Centrifuge Operating, LLC; American Centrifuge Plant

AGENCY: Nuclear Regulatory Commission.

ACTION: Environmental assessment and finding of no significant impact; issuance.

SUMMARY: The U.S. Nuclear Regulatory Commission (NRC) is considering the amendment submitted by the American Centrifuge Operating, LLC (ACO) of Special Nuclear Materials (SNM) License SNM-2011 for the American Centrifuge Plant (ACP), a proposed commercial uranium enrichment facilty to be located in Piketon, Ohio. The NRC has prepared an environmental assessment (EA) for this proposed license amendment in accordance with its regulations. Based on the EA, the NRC has concluded that a finding of no significant impact (FONSI) is appropriate. The NRC is also conducting a safety evaluation of the proposed license amendment.

DATES: The EA and FONSI referenced in this document are available on June 14, 2021.

ADDRESSES: Please refer to Docket ID NRC-2021-0058 when contacting the NRC about the availability of information regarding this document. You may obtain publicly available information related to this document using any of the following methods:

• Federal Rulemaking Website: Go to https://www.regulations.gov and search for Docket ID NRC-2021-0058. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

FOR FURTHER INFORMATION CONTACT: Jean Trefethen, Office of Nuclear Material Safety and Safeguards, U.S. Nuclear Regulatory Commission, Washington, DC 20555-0001; telephone: 301-415-0867; email: Jean.Trefethen@nrc.gov.

SUPPLEMENTARY INFORMATION:

I. Introduction

The NRC is considering a license amendment request (LAR) for license SNM-2011 for the ACP located on the U.S. Department of Energy (DOE) reservation in Piketon, Ohio (ADAMS Accession Nos. ML20139A097 and ML20139A098). The licensee, ACO, is requesting authorization to enrich uranium-235 up to the level necessary to produce High-Assay Low-Enriched Uranium (HALEU) pursuant to a contract with DOE. Under the 3-year term of the DOE contract, ACO would operate a cascade consisting of 16 centrifuges for the purpose of demonstrating the commercial viability of HALEU production for potential future use in advanced reactors.

The NRC staff has prepared a final EA as part of its review of this LAR request in accordance with the requirements of Part 51 of title 10 of the Code of Federal Regulations (10 CFR), “Environmental Protection Regulations for Domestic Licensing and Related Regulatory Functions.” Based on the final EA, the NRC has determined that an environmental impact statement (EIS) is not required for this proposed action and a FONSI is appropriate. The NRC is also conducting a safety evaluation of the proposed license amendment pursuant to 10 CFR part 70, and the results will be documented in a separate Safety Evaluation Report (SER). If ACO's request is approved, the NRC will issue the license amendment following publication of this final EA and FONSI and the SER in the Federal Register.

II. Final Environmental Assessment Summary

ACO is requesting an amendment to license SNM-2011 to authorize the enrichment of uranium-235 to the level necessary to produce HALEU in a demonstration cascade pursuant to a contract with DOE. The NRC has assessed the potential environmental impacts of the proposed action and the no-action alternative. The results of the NRC's environmental review can be found in the final EA (ADAMS Accession No. ML21085A705). The NRC staff performed its environmental review in accordance with the requirements in 10 CFR part 51. In conducting the environmental review, the NRC considered information in the LAR; communications with the Ohio State Historic Preservation Office; as well as information provided by the Ohio Ecological Services Field Office of Fish and Wildlife, the Ohio Department of Health, and the Environmental Protection Agency Region V.

III. Finding of No Significant Impact

Based on its review of the proposed action in the EA, in accordance with the requirements in 10 CFR part 51, the NRC has concluded that the proposed action, amendment of NRC license SNM-2011 for the American Centrifuge Co., LLC, located in Piketon, Ohio, will not significantly affect the quality of the human environment. Therefore, the NRC has determined, pursuant to 10 CFR 51.31, that preparation of an EIS is not required for the proposed action and a FONSI is appropriate.

Dated: June 8, 2021.
For the Nuclear Regulatory Commission.
Stacey F. Imboden,
Acting Chief, Environmental Review Materials Branch, Division of Rulemaking, Environment, and Financial Support, Office of Nuclear Material Safety and Safeguards.

[FR Doc. 2021-12356 Filed 6-11-21; 8:45 am]

BILLING CODE 7590-01-P